DEPARTMENT OF ENERGY

Office of Fossil Energy

[FE Docket No. 02-79-LNG, et al.]

Marathon LNG Marketing LLC, et. al; Orders Granting and Vacating Authority To Import and Export Natural Gas, Including Liquefied Natural Gas

AGENCY: Office of Fossil Energy, DOE.

ACTION: Notice of orders.

SUMMARY: The Office of Fossil Energy (FE) of the Department of Energy gives notice that during October 2002, it issued orders granting and vacating authority to import and export natural gas, including liquefied natural gas. These orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on December 4, 2002.
Clifford P. Tomaszewski,
Manager, Natural Gas Regulation, Office of Natural Gas & Petroleum, Import & Export Activities, Office of Fossil Energy.

Appendix

Orders Granting and Vacating Import/Export Authorizations
[DOE/FE Authority.]
Order No. | Date issued | Importer/Exporter FE Docket No. | Import volume | Export volume | Comments
1827 | 11-5-02 | Marathon LNG Marketing LLC, 02-79-LNG | 116 Bcf |  | Import LNG from various international sources beginning on November 5, 2002, and extending through November 4, 2004.
1828 | 11-7-02 | Fortuna (U.S.) Inc., 02-80-NG | 75 Bcf |  | Import and export a combined total of natural gas from and to Canada, beginning on December 1, 2002, and extending through November 30, 2004.
1829 | 11-21-02 | Engage Energy America LLC, 02-81-LNG | 1,000 Bcf | 1,000 Bcf | Import natural gas from Canada, including liquified natural gas, and export natural gas to Canada, beginning on December 1, 2002, and extending through November 30, 2004.
1830 | 11-25-02 | Pemex Gas Y Petroquimica Basica, 02-83-NG | 1.1 Tcf |  | Import and export a combined total of natural gas from and to Canada, beginning on November 25, 2002, and extending through November 24, 2004.
1830 | 11-25-02 | Pemex Gas Y Petroquimica Basica, 00-93-NG |  |  | Vacate blanket import and export authority. Order No. 1656.
1831 | 11-29-02 | Keyspan Gas East Corporation, 02-85-NG | 2 Bcf |  | Import and export a combined total of natural gas from and to Canada, beginning on January 15, 2003, and extending through January 14, 2005.

[FR Doc. 02-31585 Filed 12-13-02; 8:45 am]

BILLING CODE 6450-01-P